DEPARTMENT OF COMMERCE

National Oceanic and Atmospheric Administration

RIN 0648-XH035

Western Pacific Fishery Management Council; Public Meeting

AGENCY: National Marine Fisheries Service (NMFS), National Oceanic and Atmospheric Administration (NOAA), Commerce.

ACTION: Notice of a public meeting and hearing.

SUMMARY: The Western Pacific Fishery Management Council (Council) will hold a meeting of its Mariana Archipelago Fishery Ecosystem Plan (FEP)-Guam Advisory Panel (AP) to discuss and make recommendations on fishery management issues in the Western Pacific Region.

DATES: The Mariana Archipelago FEP-Guam AP will meet on Thursday, June 6, 2019, between 6 p.m. and 7:30 p.m. All times listed are local island times.

For specific times and agendas, see SUPPLEMENTARY INFORMATION.

ADDRESSES: The Mariana Archipelago FEP-Guam AP will meet at the Guam Division of Aquatics and Wildlife Resources Conference Room, 163 Dairy Road, Mangilao, Guam, 96913.

FOR FURTHER INFORMATION CONTACT: Kitty M. Simonds, Executive Director, Western Pacific Fishery Management Council; telephone: (808) 522-8220.

SUPPLEMENTARY INFORMATION: Public comment periods will be provided in the agenda. The order in which agenda items are addressed may change. The meetings will run as late as necessary to complete scheduled business.

Schedule and Agenda for the Mariana Archipelago FEP-Guam AP Meeting

Thursday, June 6, 2019, 6 p.m.-7:30 p.m.

1. Welcome and Introductions

2. Review of the Last AP Meeting and Recommendations

3. Council Issues

A. U.S. Territory Longline Bigeye Catch/Allocation Limits

B. Annual SAFE Report Updates

4. Guam Reports

A. Community Report

B. Education Report

C. Island Report

D. Legislative Report

5. Report on Mariana Archipelago FEP Advisory Panel Plan

6. Island Fishery Issues and Activities

7. Public Comment

8. Discussion and Recommendations

9. Other Business

Special Accommodations

The meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 13, 2019.
Rey Israel Marquez,
Acting Deputy Director, Office of Sustainable Fisheries, National Marine Fisheries Service.

[FR Doc. 2019-10157 Filed 5-15-19; 8:45 am]

BILLING CODE 3510-22-P